DEPARTMENT OF HOMELAND SECURITY

Transportation Security Administration

Intent To Request Renewal From OMB of One Current Public Collection of Information: Flight Crew Self-Defense Training—Registration and Evaluation

AGENCY: Transportation Security Administration, DHS.

ACTION: 60 day Notice.

SUMMARY: The Transportation Security Administration (TSA) invites public comment on one currently approved Information Collection Request (ICR), Office of Management and Budget (OMB) control number 1652-0028, abstracted below that TSA will submit to OMB for renewal in compliance with the Paperwork Reduction Act (PRA). The ICR describes the nature of the information collection and its expected burden. The collection involves requesting, name, contact information, airline employee number, and Social Security number (last four digits) from flight and cabin crew members of air carriers to verify employment status to confirm eligibility to participate in voluntary advanced self-defense training provided by TSA. Eligible training participants are flight and cabin crew members of an airline conducting scheduled passenger operations. See 49 U.S.C. 44918. Additionally, each participant is asked to complete a voluntary course evaluation form after the training concludes.

DATES: Send your comments by July 11, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0028, Flight Crew Self-Defense Training—Registration and Evaluation. TSA is seeking to renew the ICR, currently approved under OMB number 1652-0028, to continue compliance with a statutory mandate. Under Title VI, Sec. 603 of Vision 100—Century of Aviation Reauthorization Act (Pub. L 108-176, 117 Stat. 2490, 2563, Dec. 12, 2003), TSA is required to develop and provide a voluntary advanced self-defense training program for flight and cabin crew members of air carriers providing scheduled passenger air transportation. See 49 U.S.C. 44918(b).

TSA requests this renewal so that TSA may continue confirming participants' eligibility and attendance for the training program, as well as to continue assessing training quality. TSA collects limited biographical information from flight and cabin crew members to confirm their eligibility to participate in this training; the information requested is the participant's name, contact information, airline employee number, and the last four digits of his or her Social Security number. TSA confirms the eligibility of the participant by contacting the participant's employer. Attendance is confirmed by comparing registration information against a sign-in sheet provided in the classroom. TSA also asks participants to complete an anonymous and voluntary evaluation form after participation in the training to assess the quality of the training. The estimated number of annual respondents is 3,000 and estimated annual burden is 750 hours. There is no estimated annual cost burden to respondents.

Issued in Arlington, Virginia, on May 5, 2011.
Joanna Johnson,
Paperwork Reduction Officer, Office of Information Technology.

[FR Doc. 2011-11655 Filed 5-11-11; 8:45 am]

BILLING CODE 9110-05-P